DEPARTMENT OF LABOR

Employment and Training Administration

Employment and Training Administration Program Year 2024 Workforce Innovation and Opportunity Act Section 167, National Farmworker Jobs Program Final State Allotments

AGENCY: Employment and Training Administration, Labor.

ACTION: Notice.

SUMMARY: This Notice announces final allotments for the National Farmworker Jobs Program (NFJP) Career Services and Training grants for Program Year (PY) 2024, finalizing the preliminary planning estimates provided in a prior Federal Register notice.

DATES: The PY 2024 NFJP allotments are effective for the grant period that began July 1, 2024.

ADDRESSES: Questions on this notice can be submitted via email to NFJP@dol.gov.

FOR FURTHER INFORMATION CONTACT: Steven Rietzke, Chief, Division of National Programs, Tools and Technical Assistance, Office of Workforce Investment, at 202-693-3980. (This is not a toll-free number). If you are deaf, hard of hearing, or have a speech disability, please dial 7-1-1 to access telecommunications relay services.

SUPPLEMENTARY INFORMATION: This notice is published pursuant to Section 182(d) of the Workforce Innovation and Opportunity Act, Prompt Allotment of Funds.

I. Background

The Department is announcing final allotments for the National Farmworker Jobs Program (NFJP) Career Services and Training (CST) grants for Program Year (PY) 2024. Specifically, this notice provides information on the amount of funds available during PY 2024 to state service areas awarded through the PY 2024 Funding Opportunity Announcement (“the FOA”) for the NFJP CST grants (FOA-ETA-24-15). In distributing funds, the Employment and Training Administration (ETA) calculated allotments for CST grantees through an administrative formula. The allotments are based on the funds appropriated in the Further Consolidated Appropriations Act, 2024, Public Law 118-47.

PY 2024 funding levels are based on the full-year funding levels for the NFJP program in PY 2023 as indicated in Federal Register notice 88 FR 31279, May 16, 2023, pro-rated based on the availability of funding for NFJP formula grants in PY 2024. For PY 2024, Congress has provided $90,134,000 for formula grants (of which $90,048,000 is available for formula grants after setting aside $86,000 for program integrity). While Congress appropriated the same amount for formula grants in PY 2023 and PY 2024, ETA is setting aside less funding in PY 2024 for program integrity. Accordingly, as noted above and explained further below, ETA is calculating state allotment amounts by pro-rating the PY 2024 allotment amounts based on the results of the PY 2023 formula and the updated availability of formula funding after set-asides in PY 2024.

In the competition for CST grants, the Department did not receive competitive applications from eligible applicants for some states. The Department did not reopen the competition to seek prospective applicants to provide services in those states. In determining a course of action for those states' funds, the Department followed the procedures described in the FOA for the competition. Thus, for states where the Department did not receive any competitive applications and did not award an NFJP grant under the PY 2024 competition, the Department instead redistributed the remaining funds among the grants awarded to other state service areas, distributing funds proportionally based on the NFJP allotment formula results for PY 2024.

As background, the PY 2024 appropriation also provides $6,591,000 for migrant and seasonal farmworker housing (of which $6,585,000 was allotted after $6,000 was set aside for program integrity and of which not less than 70 percent shall be for permanent housing), as well as $671,000 for other discretionary purposes. The Housing grant allotments are distributed as a result of a separate competition and are not the subject of this Notice.

This notice includes the following sections:

• Section II of this notice provides a discussion of the data used to populate the formula.

• Section III describes the prorated method for allotments for the implementation year starting in PY 2024.

• Section IV provides final state allotments for PY 2024.

II. Description of Data Files and Allotment Formula

The formula's original methodology is described in the Federal Register notice 64 FR 27390, May 19, 1999. In PY 2018, ETA incorporated two modifications to the allotment formula to provide more accurate estimates of each state service area's relative share of persons eligible for the program. The formula also used updated data from each of the four data files serving as the basis of the formula since 1999. The revised formula methodology is described in the Federal Register notice 83 FR 32151, July 11, 2018. In PY 2021, ETA incorporated two modifications to the allotment formula. These modifications are described in Federal Register notice 86 FR 32063, June 16, 2021. The Federal Register notices are accessible at https://www.federalregister.gov/.

Like the PY 2023 appropriation, the PY 2024 appropriation includes language expanding program eligibility to farmworkers who are in families with total family incomes at or below 150 percent of the poverty line (rather than the higher of the poverty line or 70 percent of the lower living standard income level). Because the PY 2024 allotments will be prorated based on the results of the PY 2023 formula, the PY 2024 allotment results continue to reflect modifications to the formula related to this expansion. ETA will subsequently revise relevant guidance regarding the definition of “low-income individual” as needed if the same expansion of eligibility is not included in subsequent appropriations.

III. Description of the Prorated Method for Allotments

The Department used a prorated method for PY 2024 allotments. For PY 2024, each state service area received a prorated allotment based on their PY 2023 allotment percentage, as applied to the PY 2024 formula funds available. ETA anticipates updating data and reimplementing a staged stop loss/stop gain in PY 2026. ETA will explain its approach to calculating allotments in PY 2026 in a subsequent notice at a later date.

IV. Program Year 2024 Final State Allotments

The allotments set forth in the Table appended to this notice reflect the distribution resulting from the prorated methodology described above, including redistribution of funds remaining after the PY 2024 competition.

For purposes of illustrating the effects of redistribution of funds remaining after the PY 2024 competition, columns 2 and 3 show the state allotments for PY 2024 prorated and PY 2024 prorated including redistribution.

José Javier Rodríguez,
Assistant Secretary, Employment and Training, Labor.

U.S. Department of Labor, Employment and Training Administration, National Farmworker Jobs Program—Career Services and Training Grants

Program Year 2024 Allotments to States Including Redistribution of Funds Remaining After the PY 2024 Competition
State | PY 2024 Prorated No StopLoss/StopGain | PY 2024 Prorated Inc Redistribution No StopLoss/StopGain
Total | $90,048,000 | $90,048,000
Alabama | 801,079 | 819,254
Alaska |  |
Arizona | 2,635,284 | 2,695,075
Arkansas | 1,306,038 | 1,335,670
California | 23,906,708 | 24,449,119
Colorado | 1,819,809 | 1,861,098
Connecticut | 548,632 | 561,080
Delaware | 169,201 | 173,040
Dist of Columbia |  |
Florida | 3,267,472 | 3,341,607
Georgia | 1,813,107 | 1,854,244
Hawaii | 247,292 |
Idaho | 2,402,012 | 2,456,510
Illinois | 2,002,152 | 2,047,578
Indiana | 1,345,291 | 1,375,814
Iowa | 1,922,790 | 1,966,415
Kansas | 1,360,937 | 1,391,815
Kentucky | 864,825 | 884,447
Louisiana | 856,583 | 876,018
Maine | 446,602 | 456,735
Maryland | 570,300 | 583,239
Massachusetts | 561,237 |
Michigan | 2,269,521 | 2,321,013
Minnesota | 1,721,621 | 1,760,682
Mississippi | 953,985 | 975,630
Missouri | 1,334,647 | 1,364,928
Montana | 765,549 | 782,918
Nebraska | 1,364,877 | 1,395,844
Nevada | 245,085 | 250,646
New Hampshire | 159,745 |
New Jersey | 842,606 | 861,724
New Mexico | 1,168,767 | 1,195,285
New York | 2,374,154 | 2,428,020
North Carolina | 2,179,822 | 2,229,279
North Dakota | 805,699 | 823,979
Ohio | 1,573,024 | 1,608,714
Oklahoma | 958,478 |
Oregon | 2,415,431 | 2,470,234
Pennsylvania | 1,928,734 | 1,972,494
Puerto Rico | 2,113,276 | 2,161,223
Rhode Island | 70,988 |
South Carolina | 718,900 | 735,211
South Dakota | 728,617 | 745,148
Tennessee | 687,016 | 702,603
Texas | 4,789,203 | 4,897,864
Utah | 715,778 | 732,018
Vermont | 224,069 | 229,153
Virginia | 811,536 | 829,949
Washington | 4,936,614 | 5,048,619
West Virginia | 119,328 | 122,035
Wisconsin | 1,881,508 | 1,924,197
Wyoming | 342,071 | 349,832

[FR Doc. 2024-31019 Filed 12-27-24; 8:45 am]

BILLING CODE 4510-FN-P